DEPARTMENT OF THE INTERIOR

Geological Survey

[GX23DJ56UFK1000; OMB Control Number 1028-NEW]

Agency Information Collection Activities; USGS Water Use Data Acquisition

AGENCY: U.S. Geological Survey, Interior.

ACTION: Notice of information collection; request for comment.

SUMMARY: In accordance with the Paperwork Reduction Act (PRA) of 1995, the U.S. Geological Survey (USGS) is proposing a new information collection.

DATES: Interested persons are invited to submit comments. To be considered, your comments must be received on or before July 7, 2025.

ADDRESSES: You may submit comments by one of the following methods:

Internet: https://www.regulations.gov. Search for and submit comments on Docket No. USGS-2025-0012.

U.S. Mail: USGS, Information Collections Clearance Officer, 12201 Sunrise Valley Drive, MS 159, Reston, VA 20192.

FOR FURTHER INFORMATION CONTACT: Cheryl A. Dieter by email at cadieter@usgs.gov, or by telephone at 443-883-0761. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA, 44 U.S.C. 3501 et seq. and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 16, 2023, (88 FR 78780). The following comments were received: Comment 1: Is this a 60-day or 30-day notice? The text is confusing as to which it is. Also, the text refers to year 2020 in the future tense. Agency Response to Comment 1: The link provided is to the 60-day notice. Regarding the reference to 2020, it was not a mistake, as models are being developed to estimate water use for 2020. The models will continue to be expanded to estimate water use for additional years, 2021, 2022, etc. We will work to clarify this in subsequent documents. Comment 2. Can you send me the draft ICR materials, particularly the draft data-collection instruments and supporting statements parts A and B? Agency Response to Comment 2: No response or action taken as data-collection instruments and supporting statements were not final.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: This notice identifies an information collection activity that the USGS Water Availability and Use Science Program has submitted to OMB for approval to collect information on the use of water resources in the United States. The information is used by USGS scientists to estimate water use in several categories including (but not limited to) public-supply, domestic, irrigation, thermoelectric-cooling, industrial, mining, aquaculture, and livestock applications. USGS national water-use estimates are disseminated to stakeholders and the general public on an ongoing basis and fulfill requirements of the SECURE Water Act, Secure Water Act of 2009, Public Law 111-11, title IX, secs. 9501-9507, 123 Stat. 1316 (2009).

The information also supports regional and national water-availability studies in the United States. The USGS has produced estimates of annual water use by category aggregated at the county and State levels every 5 years since 1950. For 2020, models will be used to produce the estimates, and they will be made at a higher temporal and spatial resolution than previous years' estimates. Model estimates are dependent on validation using the data collected nationally for specific water-use facilities. USGS water-use specialists will request reported water-use data annually from non-Federal agencies. Respondents can provide relevant data in a variety of electronic formats, usually via websites, file sharing, or email.

Title of Collection: USGS Water Use Data Acquisition.

OMB Control Number: 1028-NEW.

Form Number: None.

Type of Review: New.

Respondents/Affected Public: State, local, and Tribal government water-resources management agencies.

Total Estimated Number of Annual Respondents: 160.

Total Estimated Number of Annual Responses: 160.

Estimated Completion Time per Response: 4 hours.

Total Estimated Number of Annual Burden Hours: 640.

Respondent's Obligation: Voluntary.

Frequency of Collection: Annually.

Total Estimated Annual Nonhour Burden Cost: None.

An agency may not conduct or sponsor, nor is a person is required to respond to a collection of information unless it displays a currently valid OMB control number.

The authority for this action is the PRA 44 U.S.C. 3501 et seq.

William Werkheiser,
Associate Director for Water, U.S. Geological Survey.

[FR Doc. 2025-10311 Filed 6-5-25; 8:45 am]

BILLING CODE 4388-11-P